DEPARTMENT OF HOMELAND SECURITY

Federal Emergency Management Agency

Agency Information Collection Activities: Submission for OMB Review; Comment Request

AGENCY: Federal Emergency Management Agency, Department of Homeland Security.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: Crisis Counseling Assistance and Training Program—Immediate Services Program.

OMB Number: 1660-0085.

Abstract: FEMA requires that the State complete an Immediate Services Program Standard Application for the Crisis Counseling Program that includes the following: (i) The geographical areas within the designated disaster area for which services will be provided; (ii) An estimate of the number of disaster victims requiring assistance; (iii) A description of the State and local resources and capabilities, and an explanation of why these resources cannot meet the need; (iv) A description of response activities from the date of the disaster incident to the date of application; (v) A plan of services to be provided to meet the identified needs; and (vi) A detailed budget, showing the cost of proposed services separately from the cost of reimbursement for any eligible services provided prior to application.

Affected Public: State, local, or tribal government.

Number of Respondents: 56.

Estimated Time per Respondent: 82 hours.

Estimated Total Annual Burden Hours: 1,910 hours.

Frequency of Response: On occasion.

Comments: Interested persons are invited to submit written comments on the proposed information collection to the Office of Information and Regulatory Affairs, Office of Management and Budget, Attention: Nathan Lesser, Desk Officer, Department of Homeland Security/FEMA, and sent via electronic mail to oira_submission@omb.eop.gov or faxed to (202) 395-6874. Comments must be submitted on or before October 10, 2006.

FOR FURTHER INFORMATION CONTACT: Requests for additional information or copies of the information collection should be made to Chief, Records Management, FEMA, 500 C Street, SW., Room 316, Washington, DC 20472, facsimile number (202) 646-3347, or e-mail address FEMA-Information-Collections@dhs.gov.

Dated: August 31, 2006.
John A. Sharetts-Sullivan,
Chief, Records Management and Privacy Information Resources Management Branch, Information Technology Services Division.

[FR Doc. E6-14823 Filed 9-6-06; 8:45 am]

BILLING CODE 9110-10-P